DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Saluda County, South Carolina and Incorporated Areas
Docket No.: FEMA B-7462
Big Creek | Approximately 510 feet downstream of Shiloh Road | +420 | Saluda County (Unincorporated Areas).
| Approximately 760 feet upstream of Shiloh Road | +424
Little Saluda River | Approximately 570 feet downstream of U.S. Highway 378 | +386 | Saluda County (Unincorporated Areas), Town of Saluda.
| Approximately 4,870 feet upstream of U.S. Highway 378 | +396
Lake Murray | Approximately 2,000 feet north of the intersection of Holly Ferry Road and Laurel Rock Point | +362 | Saluda County (Unincorporated Areas).
| At State Route 391 | +362
# Depth in feet above ground.
*National Geodetic Vertical Datum.
+National American Vertical Datum.
ADDRESSES
Saluda County (Unincorporated Areas).
Maps are available for inspection at 615 Bonham Road, Saluda, South Carolina 29138.
Town of Saluda
Maps are available for inspection at 100 South Jefferson Street, Saluda, South Carolina 29138.
Town of Monetta
Maps are available for inspection at 21 Walden Street, Monetta, SC 29150.
Town of Ridge Spring
Maps are available for inspection at 101 Town Square, P.O. Box 444, Ridge Spring, SC 29129-0444.
Town of Ward
Maps are available for inspection at 113 East Front Street, Ward, SC 29166.
Harris County, Texas and Incorporated Areas
Docket No.: FEMA-B-7453
Adlong Ditch | At confluence with Cedar Bayou | +42 | Harris County (Unincorporated Areas).
| Approximately 100 feet downstream of Peters Road | +62
Armand Bayou | Approximately 1,500 feet upstream of Nasa Road | +12 | Harris County (Unincorporated Areas).
| Approximately 200 feet downstream of Oleander Drive | +30 | City of Pasadena.
B112-02-00 Interconnect | At confluence with Spring Gully | +17 | City of La Porte.
| At confluence with B112-02-00 | +20
Bear Creek | At confluence with Langham Creek | +101 | City of Houston.
| Approximately 3,500 feet downstream of Katy Hockley Cut-Off Road | +160 | Harris County (Unincorporated Areas).
Beltway 8 Outfall Ditch | At confluence with White Oak Bayou | +99 | Harris County (Unincorporated Areas).
| Approximately 1,300 feet downstream of Fallbrook Road | +106
Bender Lake & Continuation of Bender Lake | At confluence with Spring Creek | +90 | Harris County (Unincorporated Areas).
| Approximately 900 feet downstream of Dry Spring Lane | +104
Bens Branch | At confluence with West Fork San Jacinto River | +50 | City of Houston.
| Approximately 300 feet upstream of Northpark Drive | +73 | Harris County (Unincorporated Areas).
Bering Ditch | Approximately at Olympic Circle | +52 | City of Houston.
| At confluence with Buffalo Bayou | +52
Berry Bayou | At confluence with Sims Bayou | +21 | City of Houston.
| 600 feet upstream of Evalyn Wilson Park | +34 | City of South Houston.
Berry Creek (and Unnamed Tributary to Berry Creek) | At confluence with Berry Bayou | +21 | City of Houston.
| 200 feet downstream of Wingtip Drive | +41
Big Gulch | At confluence with Greens Bayou | +26 | Harris County (Unincorporated Areas).
| Approximately 4,000 feet upstream of Beaumont Highway | +40
Big Island Slough | At confluence with Armada Bayou | +12 | City of Pasadena.
| Approximately 200 feet upstream of McCarthy Road | +23 | City of La Porte. Harris County (Unincorporated Areas).
Bintliff Ditch | At confluence with Brays Bayou | +61 | City of Houston.
| Approximately 100 feet downstream of Bellaire Boulevard | +64
Blacks Branch | At confluence with West Fork San Jacinto River | +61 | City of Humble.
| Approximately 500 feet upstream of Cantertrot Drive | +66 | Harris County (Unincorporated Areas).
Boggs Gully | At confluence with Spring Creek | +153 | Harris County (Unincorporated Areas).
| Approximately 900 feet upstream of Baker Drive | +179 | City of Tomball.
Boggy Bayou | At confluence with Buffalo Bayou -Houston Ship Channel | +11 | City of Pasadena.
| Approximately 300 feet upstream of Willowbend Drive | +30
Brays Bayou | At confluence with Ship Channel | +12 | City of Houston.
| Approximately 900 feet downstream of Vineyary Drive | +85 | Harris County (Unincorporated Areas).
Briar Branch | At confluence with Spring Branch | +48 | City of Houston.
| Approximately 500 feet downstream of Blalock Road | +75 | City of Spring Valley
Brickhouse Gully | At confluence with White Oak Bayou | +66 | City of Houston.
| Approximately 500 feet upstream of Gessner Road | +97
Bufalo Bayou-Houston Ship Channel | At confluence with San Jacinto River, Houston Ship Channel | +11 | City of Houston.
| Approximately at Phelps Road | +12
Buffalo Bayou | At confluence with Ship Channel | +12 | City of Houston.
| Approximately 100 feet upstream of Highway 6 | +77 | City of Piney Point Village.
Cane Island Branch | At confluence with Barker Dam | +97 | Harris County (Unincorporated Areas).
| Approximately at Pitts Road | +158
Caney Creek | At confluence with East Fork San Jacinto River | +58 | City of Houston.
| Approximately 3,000 feet upstream of Main Street (Extended) | +63
Cannon Gully | At confluence with Willow Creek | +130 | Harris County (Unincorporated Areas).
| Approximately 100 feet upstream of Kuykendahl Road | +138
Carpenter Bayou | At confluence with Ship Channel | +12 | Harris County (Unincorporated Areas).
| Approximately 500 feet upstream of Beaumont Highway | +39 | City of Houston.
Cary Bayou | At confluence with Cedar Bayou | +14 | City of Baytown.
| Approximately 2,500 feet upstream of Archer Road | +29 | Harris County (Unincorporated Areas).
Cedar Bayou | At confluence with Galveston Bay | +12 | Harris County (Unincorporated Areas).
| Approximately 1,500 feet upstream of Huffman Eastgate Road | +71 | City of Baytown.
Cedar Bayou Diversion Channel | Approximately at Tri City Beach Road | +12 | City of Baytown.
| At confluence with Galveston Bay | +12 | Harris County (Unincorporated Areas).
Channel A to Cypress Creek | At confluence with Cypress Creek | +149 | Harris County (Unincorporated Areas).
| Approximately 1,500 feet upstream Mason Road | +156
Channel D to Channel A to Cypress Creek | At confluence with Channel A | +154 | Harris County (Unincorporated Areas).
| Approximately 150 feet upstream of Edworthy Road | +170
Chimney Rock Diversion Channel | At confluence with Brays Bayou | +56 | City of Houston.
| Approximately 100 feet upstream of Benning Drive | +57
City Ditch | At confluence with Brays Bayou | +65 | City of Houston.
| Approximately 500 feet downstream of Bellaire Boulevard | +66
Clawson Ditch | At confluence with Cedar Bayou | +34 | Harris County (Unincorporated Areas).
| Approximately 200 feet downstream of FM 1942 | +45
Clear Creek | At confluence with Galveston Bay | +18 | City of Seabrook.
| Approximately 2,000 feet downstream of Hiram Clarke Road | +64 | City of El Lago. City of Houston. City of Nassau Bay. City of Pearland. City of Webster. Harris County (Unincorporated Areas).
Clodine Ditch | At confluence with Buffalo Bayou | +77 | City of Houston.
| Approximately 7,000 feet upstream of Bridgecrest Court (Extended) | +93
Cole Creek | At confluence with White Oak Bayou | +70 | City of Houston.
| Approximately 100 feet upstream of Fisher Road | +100 | Harris County (Unincorporated Areas).
Cotton Patch Bayou | At confluence with Buffalo Bayou-Houston Ship Channel | +12 | City of Houston.
| Approximately at Railroad | +14 | City of Pasadena.
County | At confluence with Armand Bayou | +27 | City of Pasadena.
| Approximately 100 feet upstream of Wisdom Drive | +32 | City of Deer Park.
Cow Bayou | 700 feet upstream of Camino Real Boulevard | +12 | City of Houston.
| At confluence with Clear Creek | +12 | City of Webster.
Cypress Creek | At confluence with Spring Creek | +78 | Harris County (Unincorporated Areas).
| Approximately at Harris County Limit | +185
Dinner Creek | At confluence with Langham Creek | +119 | Harris County (Unincorporated Areas).
| Approximately 3,000 feet upstream Fry Road | +142
Dry Creek | At confluence with Cypress Creek | +140 | Harris County (Unincorporated Areas).
| Approximately 4,000 feet upstream of Cypresswood Drive | +155
Dry Gully | At confluence with Cypress Creek | +114 | Harris County (Unincorporated Areas).
| Approximately 600 feet downstream of Spring Cypress Road | +137
E. 13th St. Outfall Channel | At confluence with Patrick Bayou | +20 | City of Deer Park.
| Approximately 700 feet downstream of Luella Lane | +25
East Fork Goose Creek | At confluence with Goose Creek | +15 | Harris County (Unincorporated Areas).
| Approximately 500 feet downstream of South Road | +25 | City of Baytown
East Fork Mound Creek | Approximately at Highway 6 | +248 | Harris County (Unincorporated Areas).
| Approximately at Highway 290 | +270
East Fork San Jacinto River | At confluence with Lake Houston | +50 | City of Houston.
| Approximately 700 feet upstream of Huffman Cleveland Road | +72 | Harris County (Unincorporated Areas).
Faulkey Gully | At confluence with Cypress Creek | +124 | Harris County (Unincorporated Areas).
| Approximately 2,000 feet downstream of Telge Road | +157
Fondren Diverson Channel | At confluence with Brays Bayou | +61 | City of Houston.
| Approximately 900 feet upstream of Garden Road | +65 | City of Missouri City.
Garners Bayou | At confluence with Greens Bayou | +56 | City of Humble.
| Approximately 600 feet downstream of Humble Westfield Road | +87 | City of Houston. Harris County (Unincorporated Areas).
Glenmore Ditch | At confluence with Buffalo Bayou-Houston Ship Channel | +12 | City of Houston.
| Approximately at Bond Street | +27 | City of Pasadena
Goose Creek | At confluence with Ship Channel | +12 | Harris County (Unincorporated Areas).
| Approximately 100 feet downstream of Barbers Hill Road | +42 | City of Baytown.
Greens Bayou | At confluence with Buffalo Bayou—Houston Ship Channel | +12 | City of Houston.
| Approximately 400 feet downstream of Cope Land Road | +128 | Harris County (Unincorporated Areas).
Gum Gully | At confluence with Jackson Bayou | +28 | Harris County (Unincorporated Areas).
| Approximately 1,000 feet upstream of Stroker Road | +59
Halls Bayou | At confluence with Greens Bayou | +36 | City of Houston.
| Approximately at Moselle Road | +99 | Harris County (Unincorporated Areas).
Halls Road Ditch | At confluence with Clear Creek | +29 | City of Houston.
| Approximately 3,300 feet upstream of Fuqua Road | +39 | Harris County (Unincorporated Areas).
Harris Gully | At confluence with Brays Bayou | +41 | City of Houston.
| At Rice Boulevard | +46
Horsepen Bayou | At confluence with Armand Bayou | +12 | City of Houston.
| Approximately 900 feet downstream of SH 3 Highway | +25 | City of Pasadena.
Horsepen Bayou (City of Baytown) | At confluence with Cedar Bayou | +15 | City of Baytown.
| Approximately 2,500 feet upstream of FM 146 | +20
Horsepen Bayou Diversion Channel | Approximately 100 feet upstream of Garden Creek Way | +20 | City of Houston.
| At confluence with Horsepen Bayou | +20
Horsepen Creek | Approximately at Summerville Lane | +105 | Harris County (Unincorporated Areas).
| Approximately 4,500 feet upstream West Road | +135 | City of Houston.
Hughes Gully | At confluence with Willow Creek | +128 | Harris County (Unincorporated Areas).
| Approximately at Lenze Road | +133
Hunting Bayou | At confluence with Ship Channel | +12 | City of Houston.
| Approximately 500 feet downstream of Jensen Drive | +46 | City of Galena Park. City of Jacinto City.
Jackson Bayou | At confluence with Ship Channel | +28 | Harris County (Unincorporated Areas).
| Approximately 200 feet downstream of Ramsey Road | +49
Jordan Gully | At confluence with West Fork San Jacinto River | +60 | City of Humble.
| Approximately 400 feet downstream of Derric Drive | +70 | City of Houston. Harris County (Unincorporated Areas).
Keegans Bayou | At Braeswood Boulevard | +64 | City of Houston.
| Approximately 1,300 feet upstream of Eldridge | +84
Kickapoo Creek | At confluence with Spring Creek | +220 | Harris County (Unincorporated Areas).
| Approximately 300 feet downstream of Fiel Store Road | +271
Kothman Gully | At confluence with Seals Gully | +106 | Harris County (Unincorporated Areas).
| Approximately 200 feet downstream of Peachstone Place | +134
Lake Houston | At Lake Houston Dam | +49 | City of Houston.
| Approximatley at FM 1960 | +50
Langham Creek (& Addicks Reservoir Diversion Channel) | At confluence with Buffalo Bayou | +76 | Harris County (Unincorporated Areas).
| Approximately at Peek Road | +158 | City of Houston.
Lemm Gully | At confluence with Cypress Creek | +91 | Harris County (Unincorporated Areas).
| Approximately 800 feet upstream of Louetta Road | +112
Little Ceder Bayou | Approximately at South Broadway Street | +13 | City of La Porte.
| Approximately 100 feet upstream of Southren Pacific Railroad | +21
Little Cypress Creek | At confluence with Little Cypress Creek | +132 | Harris County (Unincorporated Areas).
| Approximately 3,000 feet downstream of Kermier Road | +219
Little Mound Creek | At confluence with Mound Creek | +208 | Harris County (Unincorporated Areas).
| Approximately 1,100 feet downstream of Burton Cemetery Road | +234
Little Vince Bayou | At confluence with Vince Bayou | +12 | City of Houston.
| Approximately at Wichita Street | +28 | City of Pasadena.
Little White Oak Bayou | At confluence with White Oak Bayou | +38 | City of Houston.
| Approximately 200 feet upstream of Rittenhouse | +81
Luce Bayou | At confluence with East Fork San Jacinto | +50 | Harris County (Unincorporated Areas).
| Approximately 4,500 feet upstream of Trent Road (Extended) | +72 | City of Houston.
Mason Creek (& Unnamed Tributary to Mason Creek) | At confluence with Barker Reservoir | +97 | Harris County (Unincorporated Areas).
| Approximately 100 feet downstream Charlton House Lane | +135 | City of Houston.
McGee Gully | At confluence with Cedar Bayou | +17 | Harris County (Unincorporated Areas).
| Approximately 1,600 feet downstream of North Main Street | +33
Metzler Creek | At confluence with Cannon Gully | +131 | Harris County (Unincorporated Areas).
| Approximately 500 feet downstream of Kuykendahl Road | +138
Mexican Gully | Approximately 2,000 feet upstream of confluence with Luce Bayou | +64 | Harris County (Unincorporated Areas).
| At confluence with Luce Bayou | +64
Mills Branch | At confluence with White Oak Creek | +61 | City of Houston.
| Approximately 1,000 feet upstream of Mills Branch Road | +73
Mound Creek | Approximately 6,500 feet downstream of Yellowbird Road (Extended) | +192 | Harris County (Unincorporated Areas).
| Approximately 1,500 feet downstream of confluence with Little Mound Creek | +207
North Fork Greens Bayou | At confluence with Greens Bayou | +91 | City of Houston.
| Approximately 400 feet downstream Sablechase Drive | +108 | Harris County (Unincorporated Areas).
Panther Creek | At confluence with Buffalo Bayou-Houston Ship Channel | +12 | City of Houston.
| Approximately at Holland Avenue | +14 | City of Galena Park.
Patrick Bayou | At confluence with Buffalo Bayou-Houston Ship Channel | +11 | City of Houston.
| Approximately 100 feet downstream of Avenue X | +25 | City of Deer Park.
Pillot Gully | At confluence with Cypress Creek | +120 | Harris County (Unincorporated Areas).
| Approximately 400 feet downstream of Gregson Road | +145
Pine Gully (C103-00-00) | At confluence with Sims Bayou | +21 | City of Houston.
| 200 feet upstream of Plum Road | +35
Pine Gully (F220-00-00 & F220-03-00) | Approximately at Old Highway 146 | +12 | City of Seabrook.
| At confluence with Tributary of Pine Guly | +12 | Harris County (Unincorporated Areas).
Pine Gully (Q101-00-00) | Approximately at Tri City Beach Road | +12 | City of Baytown.
| At confluence with Cedar Bayou | +12
Plum Creek | At confluence with Sims Bayou | +19 | City of Houston.
| 150 feet upstream of Fennel Road | +20
Poor Farm Ditch | At confluence with Brays Bayou | +48 | City of Houston.
| Approximately 1,000 feet downstream of Milford Street | +50 | City of Southside Place. City of West University Place.
Private | Approximately 700 feet upstream of Havana Drive | +32 | City of Deer Park.
| At confluence with B114-00-00 | +32
Reinhardt Bayou | At confluence with Garners Bayou | +65 | City of Houston.
| Approximately 4,000 feet downstream John F. Kennedy Service Road | +78
Roan Gully | At confluence with Willow Creek | +137 | Harris County (Unincorporated Areas).
| Approximately 200 feet downstream of Stuebner Airline Road | +148
Rock Hollow | At confluence with Cypress Creek | +161 | Harris County (Unincorporated Areas).
| Approximately 1,400 feet upstream of Mound Road | +208
Rolling Fork | At confluence with White Oak Bayou | +96 | Harris County (Unincorporated Areas).
| Approximately 200 feet upstream of Plum Ridge Drive | +108
Rummel Creek | At confluence with Buffalo Bayou | +66 | City of Houston.
| Approximately at Chatterton Drive | +86
Salt Water Ditch | At confluence with Sims Bayou | +35 | City of Houston.
| 150 feet upstream of Bellfort Avenue | +41
San Jacinto River | Approximately 1,000 feet upstream of I-10 | +13 | Harris County (Unincorporated Areas).
| Approximately at the downstream fame of Lake Houston Dam | +33 | City of Houston.
San Jacinto River—Houston Ship Channel | Approximately at Battleground Road | +15 | City of Houston.
| At confluence with Galveston Bay | +19
Schramm Gully | Approximately at Cavalcade | +46 | City of Houston.
| At confluence with Hunting Bayou | +46
Schultz Gully | At confluence with Cypress Creek | +84 | Harris County (Unincorporated Areas).
| Approximately 700 feet of downstream Aldine Westfield Road | +94
Seals Gully | At confluence with Cypress Creek | +96 | Harris County (Unincorporated Areas).
| Approximately at Rhodes Road | +134
Senger Gully | At confluence with Lemm Gully | +91 | Harris County (Unincorporated Areas).
| Approximately 500 feet upstream of Old Holzwarth Road | +113 | City of Houston.
Sheldon Reservoir | Approximately 2,500 feet upstream of South Lake Houston Parkway | +48 | Harris County (Unincorporated Areas).
| At confluence with Carpenter Bayou | +48
Shook Gully | At confluence with Luce Bayou | +59 | Harris County (Unincorporated Areas).
| Approximately 5,500 feet upstream of Doverbrook Drive (Extended) | +76
Sims Bayou | At confluence with Ship Channel | +13 | City of Houston.
| 200 feet upstream of Beltway 8 | +66
Soldiers Creek | At confluence with Buffalo Bayou | +52 | City of Piney Point Village.
| Approximately 200 feet downstream of Piney Point Road | +72
South Mayde Creek (& Unnamed Tributary to South Mayde Creek) | At confluence with Addicks Reservoir | +101 | Harris County (Unincorporated Areas).
| Approximately 10,500 feet upstream of Katy Hockley Road | +170
Spring Branch | At confluence with Buffalo Bayou | +48 | City of Spring Valley.
| Approximately at Campbell Road | +77 | City of Houston.
Spring Creek | At confluence with West Fork San Jacinto River | +66 | City of Houston.
| Approximately 1,000 feet upstream of Waller Gladdish Road | +291 | City of Tomball. Harris County (Unincorporated Areas).
Spring Gully (B109-00-00) | Approximately 1,500 feet upstream of Red Bluff Road | +14 | City of Pasadena.
| Approximately 2,500 feet upstream of Fairmont Parkway | +17 | City of La Porte. Harris County (Unincorporated Areas).
Spring Gully (K131-00-00) | At confluence with Cypress Creek | +108 | Harris County (Unincorporated Areas).
| Approximately 1,000 feet upstream of Spring Cypress Road | +138
Spring Gully (O200-00-00) | At confluence with Burnett Bay | +12 | Harris County (Unincorporated Areas).
| Approximately 1,000 feet downstream of Prairie Road | +35
Spring Gully (P-110-00-00) | At confluence with Greens Bayou | +29 | City of Baytown.
| Approximately 1,500 feet downstream of Lake Houston Parkway | +30 | Harris County (Unincorporated Areas).
Spring Gully Diversion Channel | At confluence with San Jacinto River | +13 | Harris County (Unincorporated Areas).
| Approximately 200 feet downstream of Spring Gully | +20
Sulphur Gully | At confluence with Greens Bayou | +28 | Harris County (Unincorporated Areas).
| Approximately 1,500 feet downstream of Flagstaff Lane | +34
Swengel Ditch | At confluence with Sims Bayou | +40 | City of Houston.
| At East Ocean Drive | +42 | City of Houston.
Taylor Bayou | At Shoreacres Boulevard | +11 | City of Taylor Lake Village.
| At confluence with Clear Creek | +11 | City of El Lago. City of Pasadena.
Taylor Bayou Diversion Channel | 1,000 feet west of Shady Lane | +11 | Harris County (Unincorporated Areas).
| At confluence with Taylor Bayou | +11 | City of Pasadena.
Taylor Gully | At confluence with White Oak Creek | +59 | City of Houston.
| Approximately 400 feet upstream of Manor Drive | +73
Theiss Gully & Tributary to Theiss Gully | At confluence with Spring Gully | +108 | Harris County (Unincorporated Areas).
| Approximately 1,700 feet upstream of Suzanne Court | +144
Tirbutary 1.61 to Brickhouse Gully | At confluence with Brickhouse Gully | +71 | City of Houston.
| Approximately at Pinemont Drive | +82
Tributary 0.12 to Tributary 13.92 | At confluence with Tributary 13.92 to Little Cypress Creek | +187 | Harris County (Unincorporated Areas).
| Approximately 2,000 feet upstream of Botkins Road | +215
Tributary 0.26 to Willow Creek | Approximately 2,000 feet downstream of Fox Hollow Boulevard | +120 | Harris County (Unincorporated Areas).
| At confluence with Willow Creek | +120
Tributary 0.55 to Tributary 3.19 Garners | At confluence with Williams Gully | +63 | City of Humble.
| Approximately 100 feet downstream of Houston Avenue | +77 | Harris County (Unincorporated Areas).
Tributary 1.25 to Boggs Gully | At confluence with Boggs Gully | +159 | Harris County (Unincorporated Areas).
| Approximately 800 feet downstream of Hufsmith Kohrville Road | +173 | City of Tomball.
Tributary 1.63 to Rock Hollow | At confluence with Rock Hollow | +165 | Harris County (Unincorporated Areas).
| Approximately 1.5 miles downstream of Mount Road | +193
Tributary 1.78 to Willow Springs Bayou | At confluence with Willow Springs Bayou | +20 | City of Deer Park.
| Approximately 300 feet upstream of North P Street | +27 | City of La Porte.
Tributary 1.95 to North Fork Greens Bayou | At confluence with Greens Bayou | +97 | Harris County (Unincorporated Areas).
| Approximately 2,000 feet downstream Bammel Road (FM1960) | +108
Tributary 10.08 to Clear Creek | At confluence with Clear Creek | +12 | Harris County (Unincorporated Areas).
| 2,500 feet downstream of Bay Area Boulevard | +23
Tributary 10.1 to White Oak Bayou | At confluence with White Oak Bayou | +71 | City of Houston.
| Approximately 300 feet downstream of Pinemont Drive | +80
Tributary 10.46 to Armand Bayou | At confluence with Armand Bayou | +20 | City of Pasadena
| Approximately 700 feet upstream of Preston Boulevard | +33
Tributary 10.77 to Sims Bayou | At confluence with Sims Bayou | +36 | City of Houston.
| Approximately 200 feet downstream of Orem Drive | +40
Tributary 10.99 to Little Cypress Creek | At confluence with Little Cypress Creek | +175 | Harris County (Unincorporated Areas).
| Approximately 300 feet downstream of Cook Road | +212
Tributary 11.715 to Carpenters Bayou | At confluence with Carpentes Bayou | +39 | Harris County (Unincorporated Areas).
| Approxiamtely 1,700 feet usptream of Beaumont Highway | +43
Tributary 11.96 to Halls Bayou | Approximately 900 feet downstream of East Carby Street | +73 | City of Houston.
| At confluence with Halls Bayou | +73 | Harris County (Unincorporated Areas).
Tributary 12.05 to Hunting Bayou | At confluence with Hunting Bayou | +44 | City of Houston.
| Approximately at Wipprecht Street | +48
Tributary 12.18 to Armand Bayou | At confluence with Armand Bayou | +26 | City of Pasadena.
| Approximately at Beltway 8 | +30
Tributary 12.70 to Hunting Bayou | Approximately at Crane Street | +45 | City of Houston.
| At confluence with Hunting Bayou | +45
Tributary 13.50 to Willow Creek | At confluence with Willow Creek | +160 | Harris County (Unincorporated Areas).
| Approximately 1,000 feet downstream of FM 2920 | +174
Tributary 13.83 to Sims Bayou | Approximately 250 feet upstream of Sunbeam | +42 | City of Houston.
| At confluence with Sims Bayou | +42
Tributary 13.92 to Little Cypress Creek | At confluence with Little Cypressn Creek | +187 | Harris County (Unincorporated Areas).
| Approximately 600 feet downstream of Botkins Road | +199
Tributary 14.27 to Greens Bayou | At confluence with Greens Bayou | +43 | City of Houston.
| Approximately 300 feet downstream of Van Zandt | +62 | Harris County (Unincorporated Areas).
Tributary 14.82 to Greens Bayou | At confluence with Greens Bayou | +44 | City of Houston.
| Approximately 200 feet downstream of Spottswood Drive | +63 | Harris County (Unincorporated Areas).
Tributary 15.8 to Whie Oak Bayou | At confluence with White Oak Bayou | +89 | Harris County (Unincorporated Areas).
| Approximately 500 feet downstream of Fairbanks North Houston Road | +100
Tributary 17.82 to Sims Bayou | Approximately 100 feet downstream of Airport Boulevard | +52 | City of Houston.
| At confluence with Sims Bayou | +52
Tributary 19.05 to White Oak Bayou | At confluence with White Oak Bayou | +104 | City of Jersey Village.
| Approximately 1,300 feet downstream of Wright Road | +111
Tributary 19.82 to White Oak Bayou | At confluence with White Oak Bayou | +106 | City of Jersey Village.
| Approximately at Highway 290 | +114
Tributary 2.00 to Berry Bayou | At confluence with Berry Bayou | +24 | City of Houston.
| 700 feet upstream of College Street | +33 | City of South Houston.
Tributary 2.01 to Williams Gully | At confluence with Williams Gully | +58 | Harris County (Unincorporated Areas).
| Approximately 1,000 feet downstream of Atascocita Road | +70
Tributary 2.1 to Spring Gully | At confluence with Spring Gully | +114 | Harris County (Unincorporated Areas).
| Approximately 600 feet upstream of Plymouth Ridge | +133
Tributary 2.17 to Tributary 52.9 to Upper Buffalo Bayou/Cane | Approximately 300 feet downstream of Mason Road | +100 | Harris County (Unincorporated Areas).
| At confluence with Tributary 52.9 to Upper Buffalo Bayou/Cane | +100
Tributary 2.44 to Willow Creek | At confluence with Willow Creek | +123 | Harris County (Unincorporated Areas).
| Approximately 400 feet downstream of Alderley Road | +135
Tributary 2.70 to Gum Gully | At confluence with Gum Gully | +35 | Harris County (Unincorporated Areas).
| Approximately 1,200 feet upstream of Humble Crosby Road | +51
Tributary 20.25 to Sims Bayou | At confluence with Sims Bayou | +55 | City of Houston.
| Approximately 500 feet downstream of Melanite | +59
Tributary 20.86 to Brays Bayou | At confluence with Brays Bayou | +67 | City of Houston.
| Approximately 100 feet downstream of Southern Pacific Railroad | +72
Tributary 20.88 to Greens Bayou | At confluence with Greens Bayou | +59 | City of Houston.
| Approximately 200 feet downstream IH 59 | +68 | Harris County (Unincorporated Areas).
Tributary 20.90 to Brays Bayou | At confluence with Brays Bayou | +67 | City of Houston.
| Approximately 200 feet upstream of Cook Road | +81
Tributary 21.08 to Spring Creek | At confluence with Spring Creek | +118 | Harris County (Unincorporated Areas).
| Approximately 250 feet downstream of Railroad | +131
Tributary 21.95 to Brays Bayou | Approximately 1,000 feet downstream of Wilcrest Drive | +71 | City of Houston.
| Approximately at Synott Road | +80
Tributary 22.69 to Brays Bayou | Approximately 400 feet upstream of Richmond Avenue | +72 | City of Houston.
| Approximately 500 feet downstream of High Star Drive | +72
Tributary 23.53 to Brays Bayou | At confluence with Brays Bayou | +73 | Harris County (Unincorporated Areas).
| Approximately 100 feet downstream of Metro Boulevard | +80 | City of Houston.
Tributary 24.97 to Greens Bayou | At confluence with Greens Bayou | +68 | City of Houston.
| Approximately 350 feet downstream IH 45 | +82 | Harris County (Unincorporated Areas).
Tributary 26.20 to Brays Bayou | At confluence with Bray Bayou | +78 | Harris County (Unincorporated Areas).
| Approximately 2,000 feet upstream of Piping Rock Road | +82 | City of Houston.
Tributary 26.64 to Greens Bayou—Hoods Bayou | At confluencewith Greens Bayou | +73 | City of Houston.
| Approximately 2,000 feet upstream Farrell Road | +98 | Harris County (Unincorporated Areas).
Tributary 29.16 to Brays Bayou | At confluence with Brays Bayou | +84 | Harris County (Unincorporated Areas).
| Approximately 400 feet upstream of Addicks Clodine Road | +85
Tributary 3.08 to Gum Gully | At confluence with Gum Gully | +36 | Harris County (Unincorporated Areas).
| Approximately 7,500 feet upstream of Golf Club Drive | +56
Tributary 3.10 to Taylor Bayou | 3,000 feet downstream of Red Bluff Road | +11 | Harris County (Unincorporated Areas).
| At confluence with Taylor Bayou | +11
Tributary 3.19 to Garners Bayou | At confluence with Garners Bayou | +61 | City of Houston.
| Approximately 150 feet downstream Wilson Road | +71 | Harris County (Unincorporated Areas).
Tributary 3.31 to Berry Bayou | At confluence with Berry Bayou | +29 | City of Houston.
| 100 feet upstream of Princess Drive | +34 | City of South Houston.
Tributary 3.33 to Capenters Bayou | At confluence with Carpenters Bayou | +14 | Harris County (Unincorporated Areas).
| Approximately 700 feet downstream of Ashland Drive | +28
Tributary 3.36 to Taylor Bayou | 1,000 feet downstream of Choates Road | +11 | Harris County (Unincorporated Areas).
| At confluence with Taylor Bayou | +11
Tributary 3.9 to Turkey Creek | At confuence with Turkey Creek | +101 | Harris County (Unincorporated Areas).
| Approximately 300 feet downstream West Little York Road | +110 | City of Houston.
Tributary 3.93 to Taylor Bayou | 500 feet west of Railroad | +11 | Harris County (Unincorporated Areas).
| At confluence with Taylor Bayou | +11 | City of Pasadena.
Tributary 32.23 to Greens Bayou | At confluence with Greens Bayou | +92 | Harris County (Unincorporated Areas).
| Approximately 200 feet downstream Spears Road | +98
Tributary 34.60 to Greens Bayou | At confluence with Greens Bayou | +99 | Harris County (Unincorporated Areas).
| Approximately 300 feet downstream Antoine Drive | +103
Tributary 36.6 to Cypress Creek | At confluence with Cypress Creek | +147 | Harris County (Unincorporated Areas).
| Approximately 6,000 feet upstream of Access Road | +152
Tributary 37.1 to Cypress Creek | At confluence with Cypress Creek | +148 | Harris County (Unincorporated Areas).
| Approximately 1,000 feet downstream of Highway 290 | +153
Tributary 4.51 to Horespen Bayou | At confluence with Horsepen Bayou | +19 | City of Houston.
| Approximately 600 feet upstream of Space Cneter Boulevard | +22
Tributary 4.96 to Mason Creek | At confluence with Mason Creek | +122 | Harris County (Unincorporated Areas).
| Approximately 7,800 feet upstream of Peek Road South | +135 | City of Houston.
Tributary 40.7 to Cypress Creek | At confluence with Cypress Creek | +156 | Harris County (Unincorporated Areas).
| Approximately 1,500 feet downstream of Highway 290 | +198
Tributary 42.7 to Cypress Creek | At confleunce with Cypress Creek | +159 | Harris County (Unincorporated Areas).
| Approximately 2 miles upstream of Jack Road | +197
Tributary 44.5 to Cypress Creek | At confluence with Cypress Creek | +164 | Harris County (Unincorporated Areas).
| Approximately 3,800 feet downstream of Mound Road | +208
Tributary 5.44 to Horsepen Bayou | 200 feet upstream of Crescent Landing | +21 | City of Houston.
| At confluence with Horsepen Bayou | +21
Tributary 52.9 to Upper Buffalo Bayou/Cane | At confluence with Cane Island Branch | +97 | Harris County (Unincorporated Areas).
| Approximately 3,000 feet downstream Highland Knolls Drive | +102 | City of Houston.
Tributary 6.71 to Halls Bayou | At confluence with Halls Bayou | +56 | City of Houston.
| Approximately 200 feet downstream of Mount Houston | +62 | Harris County (Unincorporated Areas).
Tributary 6.77 to Buffalo Bayou | Approximately 400 feet upstream of First Street | +12 | City of Houston.
| At confluence with Buffalo Bayou-Houston Ship Channel | +12
Tributary 7.62 to Mound Creek | Approximately at Burton Cemetery Road (Extended) | +225 | Harris County (Unincorporated Areas).
| Approximately 600 feet upstream of Burton Cemetery Road (Extended) | +227
Tributary 8.16 to Willow Creek | At confluence with Willow Creek | +143 | Harris County (Unincorporated Areas).
| Approximately 2,000 feet downstream of Mahaffey Road | +158
Tributary 9.36 to Little Cypress Creek | At confluence with Little Cypress Creek | +168 | Harris County (Unincorporated Areas).
| Approximately 800 feet downstream of Bauer Hockley Road | +174
Tributary 9.39 to Armand Bayou | At confluence with Armand Bayou | +18 | City of Pasadena.
| Approximately 6,000 feet downstream of Farley Road | +28 | City of Houston.
Tributary 9.4 to South Mayde Creek | At confluence with South Mayde Creek | +125 | Harris County (Unincorporated Areas).
| Approximately at Katy Hockley Cut-off Road | +147
Tributary B to Willow Springs Bayou | At confluence with Willow Springs Bayou | +26 | City of Deer Park.
| Approximately 150 feet upstream of Amy Drive | +26
Tributary to Spring Gully | At confluence with Spring Gully | +123 | Harris County (Unincorporated Areas).
| Approximately 1,200 feet upstream of T.C. Jester Boulevard | +139
Tributary to Turkey Creek | At confluence with Turkey Creek | +78 | City of Houston.
| Approximately 200 feet upstream of Farrel Road | +81
Turkey Creek (A119-00-00) | At confluence with Clear Creek | +28 | Harris County (Unincorporated Areas).
| At Sageglen Road | +31 | City of Houston.
Turkey Creek (K111-00-00) | At confluence with Cypress Creek | +78 | Harris County (Unincorporated Areas).
| Approximately at Willow West Drive | +105 | City of Houston.
Turkey Creek and Continuation of Turkey Creek | At confluence with Buffalo Bayou | +75 | Harris County (Unincorporated Areas).
| Approximately 200 feet downstream of West Little York Road | +106 | City of Houston.
TxDOT Ditch #4 | Approximatley 1,700 feet downstream Houston Avenue | +60 | City of Humble.
| At confluence with Jordan Gully | +60 | City of Houston. Harris County (Unincorporated Areas).
Unnamed Tributary of Buffalo Bayou (W157-00-00) | At confluence with Buffalo Bayou | +67 | City of Houston.
| Approximately 500 feet downstream of Westheimer Road | +71
Unnamed Tributary to A119-07-00 | At confluence with A119-07-02 | +31 | City of Houston.
| 1,000 feet upstream of Conklin Lane | +32
Unnamed Tributary to B114-00-00 | Approximately 100 feet downstream of Kalwick Drive | +32 | City of Deer Park.
| At confluence with B114-00-00 | +32
Unnamed Tributary to Bear Creek | At confluence with Bear Creek | +103 | Harris County (Unincorporated Areas).
| Approximately 100 feet downstream Judyleigh Drive | +117 | City of Houston.
Unnamed Tributary to Buffalo Bayou (W170-00-00) | At confluence with Buffalo Bayou | +77 | Harris County (Unincorporated Areas).
| Approximately 100 feet upstream of Barker Clodine Road | +101 | City of Houston.
Unnamed Tributary to Cedar Bayou | At confluence with Cedar Bayou | +52 | Harris County (Unincorporated Areas).
| Approximately 200 feet downstream of Crosby Eastgate Road | +60
Unnamed Tributary to Cow Bayou | 100 feet upstream of Camino Real Boulevard | +12 | City of Houston.
| At confluence with Cow Bayou | +12 | City of Webster.
Unnamed Tributary to Greens Bayou (P-147-00-00) | At confluence with Greens Bayou | +93 | City of Houston.
| Approximately 1,200 feet downstream Antoine Drive | +104
Unnamed Tributary to Greens Bayou (P114-00-00) | At confluence with Greens Bayou | +32 | City of Houston.
| Approximately 200 feet downstream of Mesa Drive | +38
Unnamed Tributary to Greens Bayou (P155-00-00) | At confluence with Greens Bayou | +78 | City of Houston.
| Approximately 200 feet downstream of P140-00-00 | +80 | Harris County (Unincorporated Areas).
Unnamed Tributary to Greens Bayou (P156-00-00) | At confluence with Greens Bayou | +80 | City of Houston.
| Approximately 400 feet upstream of Goodnight Trail | +82 | Harris County (Unincorporated Areas).
Unnamed Tributary to San Jacinto River (G103-01-00) | At confluence with San Jacinto River | +11 | Harris County (Unincorporated Areas).
| Approximately at Pine Street | +26
Unnamed Tributary to San Jacinto River (G103-07-00) | At confluence with San Jacinto River | +22 | Harris County (Unincorporated Areas).
| Approximately 600 feet downstream of Miller Road No. 2 | +41
Unnamed Tributary to Turkey Creek (A119-05-00) | At confluence with Turkey Creek | +30 | City of Houston.
| 250 feet downstream of SH 3 | +32
Unnamed Tributary to Turkey Creek (A119-07-00) | 600 feet upstream of confluence with Turkey Creek | +31 | City of Houston.
| At confluence with Turkey Creek | +31
Unnamed Tributary to White Oak Bayou | At confluence with White Oak Bayou | +85 | City of Houston.
| Approximately 150 feet downstream of Round Bank Drive | +104 | Harris County (Unincorporated Areas).
Unnamed Tributary to Willow Creek | Approximately 300 feet upstream of Elberry Road | +123 | Harris County (Unincorporated Areas).
| At confluence with Willow Creek | +123
Vince Bayou | At confluence with Ship Channel | +12 | City of Houston.
| Approximately at Fairmont Parkway | +33 | City of Pasadena.
Vogel Creek | At confluence with White Oak Bayou | +74 | City of Houston.
| Approximately 300 feet downstream of Fallbrook Road | +104 | Harris County (Unincorporated Areas).
Wallisville Outfall | At confluence with Hunting Bayou | +26 | City of Houston.
| Approximately 200 feet downstream of Gelhorn Drive | +36
West Fork San Jacinto River | At confluence with Lake Houston | +50 | City of Humble.
| Approximately 600 feet upstream of U.S. Highway 59 | +68 | City of Houston. Harris County (Unincorporated Areas).
White Oak Bayou | Approximately at I-10 | +35 | City of Houston.
| Approximately 200 feet downstream of Highway 290 | +131 | City of Jersey Village. Harris County (Unincorporated Areas).
White Oak Creek | At confluence with Caney Creek | +58 | City of Houston.
| Approximately 1,800 feet upstream of Hueni Road | +63
Wild Cow Gulch | At confluence with Cypress Creek | +78 | Harris County (Unincorporated Areas).
| Approximately at Hickory Gate Drive | +95
Williams Gully | At confluence with Garners Bayou | +58 | Harris County (Unincorporated Areas).
| Approximately 300 feet upstream of Will Clayton Parkway | +63
Willow Creek & Continuation of Willow Creek | At confluence with Spring Creek | +120 | Harris County (Unincorporated Areas).
| Approximately 6,500 feet upstream of Juergen Road | +201
Willow Springs Bayou | At confluence with Armand Bayou | +20 | City of Pasadena.
| Approximately 300 feet downstream of Luella Lane | +27 | City of Deer Park. City of La Porte. Harris County (Unincorporated Areas).
Willow Waterhole Bayou | At confluence with Brays Bayou | +52 | City of Houston.
| At Braewick Drive | +59
Wunsche Gully | At confluence with Lemm Gully | +97 | Harris County (Unincorporated Areas).
| Approximately 2,000 feet east of Wuensche Road | +125 | City of Houston.
# Depth in feet above ground.
*National Geodetic Vertical Datum (to convert to NAVD, add 4.2 feet to NGVD elevation).
+National American Vertical Datum.
ADDRESSES
Harris County (Unincorporated Areas)
Maps are available for inspection at 10000 Northwest Freeway, Suite 102, Houston, TX 77092.
City of Baytown
Maps are available for inspection at 2401 Market Street, Baytown, TX 77520.
City of Bellaire
Maps are available for inspection at 7008 South Rice Avenue, Bellaire, TX 77401.
City of Bunker Hill Village
Maps are available for inspection at 10000 Northwest Freeway, Suite 102, Houston, TX 77092.
City of Chelford M.U.D.
Maps are available for inspection at Putney, Moffatt & Easley Inc., 1301 Sherwood Forest, Houston, TX 77043.
City of Deer Park
Maps are available for inspection at 710 East Saint Augustine Street, Deer Park, TX 77536.
City of El Lago
Maps are available for inspection at 98 Lakeshore Drive, El Lago, TX 77586.
City of Galena Park
Maps are available for inspection at 2000 Clinton Drive, Galena Park, TX 77547
City of Hedwig Village
Maps are available for inspection at 10000 Northwest Freeway, Suite 102, Houston, TX 77092.
City of Hillshire Village
Maps are available for inspection at 8389 Westview Drive, Houston, TX 77055.
City of Houston
Maps are available for inspection at 901 Bagby, Houston TX 77002.
City of Humble
Maps are available for inspection at 114 West Higgins, Humble, TX 77338.
City of Jacinto City
Maps are available for inspection at 10301 Market Street Road, Houston, TX 77029.
City of Jersey Village
Maps are available for inspection at 16501 Jersey Drive, Houston, TX 77040.
City of La Porte
Maps are available for inspection at 604 West Fairmont Parkway, La Porte, TX 77571.
City of Missouri City
Maps are available for inspection at 1522 Texas Parkway, Missouri City, TX 77489.
City of Morgans Point
Maps are available for inspection at 1415 East Main Street, Morgans Point, TX 77571.
City of Nassau Bay
Maps are available for inspection at 1800 NASA Road One, Nassau Bay, TX 77058.
City of Pasadena
Maps are available for inspection at 1211 East Southmore, Pasadena, TX 77502.
City of Pearland
Maps are available for inspection at 3519 Liberty Drive, Pearland, TX 77581.
City of Piney Village
Maps are available for inspection at 7721 San Felipe, Houston, TX 77063.
City of Seabrook
Maps are available for inspection at 1700 First Street, Seabrook, TX 77586.
City of Shoreacres
Maps are available for inspection at 601 Shoreacres Blvd, La Porte, TX 77571.
City of South Houston
Maps are available for inspection at 1018 Dallas Street, South Houston, TX 77587.
City of Southside Place
Maps are available for inspection at 6309 Edloe Street, Houston, TX 77005.
City of Spring Valley
Maps are available for inspection at 1025 Campbell Road, Houston, TX 77055.
City of Stafford
Maps are available for inspection at 2610 South Main Street, Stafford, TX 77477.
City of Taylor Lake Village
Maps are available for inspection at 500 Kirby, Seabrook, TX 77586.
City of Tomball
Maps are available for inspection at 401 West Market Street, Tomball, TX 77375.
City of Webster
Maps are available for inspection at 311 Pennsylvania Ave, Webster, TX 77598.
City of West University Place
Maps are available for inspection at 3826 Amherst Street, West University Place, TX 77005.
Kingsbridge M.U.D.
Maps are available for inspection at 14526 Royal Hill Drive, Houston, TX 77093.
Mission Bend M.U.D. #1
Maps are available for inspection at 10000 Northwest Freeway, Suite 102, Houston, TX 77092.
Mission Bend M.U.D. #1
Maps are available for inspection at Moffatt-Easley Inc, 1303 Sherwood Forest, Houston, TX 77043.
West Keegans Bayou Improvement District
Maps are available for inspection at 5757 Woodway, Houston, TX 77057.
Willow Fork Drainage District
Maps are available for inspection at Turner, Collie & Braden, 5757 Woodway, Houston, TX 77057.
Davis County, Utah and Incorporated Areas
Docket No.: FEMA B-7464
Great Salt Lake | Approximately 1000 feet West of intersection of N 800 W and W Jim Bridger | +4217 | City of Centerville.
| At intersection of 900 W and Parish Lane | +4218
Great Salt Lake | Approximately 400 feet Northwest of intersection of N Ranch and W Prairie View | +4218 | City of Farmington.
| Approximately 1400 feet West of intersection of N Ranch and W Prairie View | +4219
Great Salt Lake | Approximately 1800 feet South-Southeast of intersection of S View Crest and W Thomas | +4218 | City of Kaysville.
Great Salt Lake | Approximately 400 feet West of intersection of N 5000 W and W 300 North | +4217 | City of West Point.
Great Salt Lake | Approximately 0.9 miles West of intersection of W 2425 S and N Redwood | +4218 | City of Woods Cross.
Great Salt Lake | Approximately 1600 feet West of intersection of W York and N Skipton | +4218 | City of North Salt Lake City.
Great Salt Lake | Approximately 1500 feet West of intersection of County Road 127 and County Road 110 | +4217 | Davis County (Unincorporated Areas).
| Approximately 0.6 miles Northwest of intersection of W Porter and N 1100 W | +4219
Great Salt Lake | Approximately 200 feet West of Intersection of N Willowbrook and N 880 W | +4218 | City of West Bountiful.
Jordan River | Approximately 1600 feet South of intersection of W Interchange and S Enterprise | +4217 | City of North Salt Lake City.
| Approximately 600 feet west of intersection of W Interchange and S Enterprise | +4218
# Depth in feet above ground.
*National Geodetic Vertical Datum.
+National American Vertical Datum.
ADDRESSES
City of Centerville
Maps are available for inspection at 655 North 1250 West, Centerville, UT 84014.
City of Farmington
Maps are available for inspection at 130 North Main, Farmington, UT 84025.
City of Kaysville
Maps are available for inspection at 23 East Center Street, Kaysville, UT 84037.
City of North Salt Lake City
Maps are available for inspection at 20 South Highway 89, North Salt Lake City, UT 84054.
City of West Bountiful
Maps are available for inspection at 550 North 800 West, West Bountiful, UT 84087.
City of West Point
Maps are available for inspection at 3200 West 300 North, West Point, UT 84015.
City of Woods Cross
Maps are available for inspection at 1555 South 800 West, Woods Cross, UT 84087.
Davis County (Unincorporated Areas)
Maps are available for inspection at 28 East State Street, Farmington, UT 84025.

(Catalog of Federal Domestic Assistance No. 83.100, “Flood Insurance.”)

Dated: December 22, 2006.
David I. Maurstad,
Director, Mitigation Division, Federal Emergency Management Agency, Department of Homeland Security.

[FR Doc. E6-22521 Filed 1-3-07; 8:45 am]

BILLING CODE 9110-12-P